DEPARTMENT OF ENERGY

Western Area Power Administration

Transmission Infrastructure Program—TransWest Express Transmission Project Capacity

AGENCY: Western Area Power Administration, Department of Energy.

ACTION: Notice of request for Statements of Interest.

SUMMARY: The Western Area Power Administration (Western), a Federal power marketing administration of the United States Department of Energy (DOE), is requesting Statements of Interest (SOIs) from entities that are interested in purchasing transmission service. Western is currently evaluating its role in the TransWest Express Transmission Project (TWE Project) that would create a new transmission path from south central Wyoming to southern Nevada. As part of that evaluation, Western is requesting SOIs from any entity or entities desiring to purchase Long-Term Firm Transmission Service to deliver generation over the TWE Project.

DATES: To be assured consideration, all responses should be received by Western on or before 4 p.m. MST on December 2, 2010.

ADDRESSES: Send written responses to: T. Craig Knoell, Transmission Infrastructure Program Manager, Western Area Power Administration, P.O. Box 281213, Lakewood, CO 80228-8213. Responses may be delivered by certified mail, commercial mail, e-mail: txrfi@wapa.gov, or fax: 720-962-7700.

FOR FURTHER INFORMATION CONTACT: Ms. Stacey Harris, Public Utilities Specialist-TWE Project Manager, Transmission Infrastructure Program, Western Area Power Administration, P.O. Box 281213, Lakewood, CO 80228-8213, e-mail: txrfi@wapa.gov. This notice also is available on Western's Web site at http://www.wapa.gov/fedreg/fedreg10.htm.

SUPPLEMENTARY INFORMATION: Western markets and transmits Federal power resources from various multi-purpose hydroelectric projects to customers in accordance with Federal law. Western owns and operates an integrated 17,000 circuit mile, high-voltage transmission system across 15 western states covering a 1.3 million square mile service area. Western's transmission system is used to deliver Federal hydropower to Western's customers. In addition, the system is used to deliver power from interconnected power producers, including clean renewable energy resources.

Under section 402 of the American Recovery and Reinvestment Act (Recovery Act), 42 U.S.C. 16421a, Public Law 111-5, 123 Stat. 141, Div A, Title IV, section 402 (2009) (adding Section 301 to the Hoover Power Plant Act of 1984 [Public Law 98-381, Title III, section 301]), Western may borrow funds from the United States Treasury to construct, finance, facilitate, plan, operate, maintain, and/or study construction of new or upgraded electric power transmission lines and related facilities with at least one terminus in Western's marketing area, that deliver or facilitate the delivery of power from renewable resources constructed or reasonably expected to be constructed after the date of enactment of the Recovery Act. In order to implement section 402, on March 4, 2009, Western published a Notice of Proposed Program and Request for Public Comments in the Federal Register (74 FR 9391) describing its proposed Transmission Infrastructure Program (TIP) and soliciting public input on that program. After considering the comments received on its March 4 notice, Western published its final TIP Notice of Program on May 14, 2009 (74 FR 22732).

Western also published a Notice of Availability of Request for Interest on March 4, 2009, (74 FR 9391) that solicited interest in proposed transmission projects that resulted in the submission of over 200 SOIs, including a SOI for the TWE Project. Western is evaluating its potential participation in the TWE Project. The TWE Project is proposed as a 725-mile, 3,000-megawatt (MW), 600-kilovolt (kV), two-terminal, direct-current (DC) transmission system with terminals in Wyoming and Nevada and a potential interconnection at the Intermountain Power Project near Delta, Utah. The northern substation/converter station would be located near the Platte substation, in Carbon County, Wyoming. The southern substation/converter station would be located in southern Nevada near the Eldorado Valley. The northern terminal of the line is anticipated to interconnect with the planned 500-kV alternating current (AC) system that PacifiCorp has proposed as part of the Energy Gateway project. The southern terminal of the line would be interconnected with the 500-kV AC substations within the Eldorado Valley, where power can be wheeled to the various markets in the region. The estimated cost for the project is $3 billion and the planned in-service date is 2015. Western anticipates that it will be able to make approximately 250 MW of unidirectional surplus transmission capacity available from the Carbon County, Wyoming area to the Clark County, Nevada area.

In this notice, Western solicits SOIs to allow Western to determine the level of interest in Western's portion of long-term firm transmission service on the TWE Project. Information received through this effort may assist Western in acquiring TWE Project support and approval. Specifically, Western is soliciting any and all interest from entities looking to transfer energy from the Carbon County, Wyoming area to the Clark County, Nevada area. Western's rate would be cost-based; however, Western does not currently have sufficient information to estimate a rate. An expression of interest in purchasing this long-term firm transmission service made by submitting a SOI is not binding or promissory. SOIs submitted with respect to this notice should, at a minimum, include the following information:

1. Name and general description of the entity submitting the SOI.

2. Name, mailing address, telephone number, facsimile number, and e-mail address of that entity's primary contact.

3. Preferred interconnection points.

4. Description of the resources the proposed TWE Project transmission path would facilitate delivery of, including type(s) of resources, general location of generation and load or markets, existing interconnection requests, anticipated resource capacity and capacity factor of resource, estimated commercial operation date of generation, and any other information that would be useful in evaluating submitted SOIs.

5. The amount of transmission capacity and desired term of agreement for long-term firm transmission service and the interconnection or receipt points on the proposed path.

6. A general description of financing for generation.

7. A statement of financial stability.

Entities intending to submit a SOI should request from Western a SOI Evaluation Agreement. Entities must then execute the SOI Evaluation Agreement and pay a non-refundable SOI Evaluation Cost in the sum of $5,000. Western intends to use these funds to defray its cost in evaluating the SOIs and to continue its efforts in considering its potential participation in the TWE Project. By submitting an SOI and associated Evaluation Cost, submitters will be included for future consideration for Western's capacity in the TWE Project should the project proceed and Western participate in it.

Western will treat data submitted by entities in this process, including financing arrangements with other parties, in accordance with the Freedom of Information Act (FOIA). Participants may identify for confidential treatment all or part of a submitted document under the FOIA exemption for “Confidential Business Information” with appropriate markings. Such markings will be considered in the event a FOIA request for the information is received.

Environmental Compliance

In compliance with the National Environmental Policy Act of 1969 (NEPA) (42 U.S.C. 4321, et seq.), the Council on Environmental Quality Regulations for implementing NEPA (40 CFR Parts 1500-1508) and the DOE NEPA Implementing Procedures and Guidelines (10 CFR Part 1021), Western has determined that this action is categorically excluded from further NEPA analysis. Future actions under this authority will undergo appropriate NEPA analysis.

Dated: October 7, 2010.
Timothy J. Meeks,
Administrator.

[FR Doc. 2010-26143 Filed 10-15-10; 8:45 am]

BILLING CODE 6450-01-P